DEPARTMENT OF AGRICULTURE

Forest Service

Caribou Targhee National Forest; Teton County; Wyoming; Grand Targhee Resort Master Development Plan Projects EIS

AGENCY: Forest Service, USDA.

ACTION: Notice of intent to prepare an environmental impact statement.

SUMMARY: Grand Targhee Resort (GTR) has submitted a proposal to the Caribou-Targhee National Forest (CTNF) to pursue approval of select projects from its 2018 Master Development Plan (MDP). The CTNF is considering this proposal and is initiating the preparation of an environmental impact statement (EIS) to analyze and disclose the potential environmental effects of implementing the projects. The proposed action includes: Two areas to be incorporated into the existing special use permit (SUP) boundary with new terrain and lifts; lift replacements and realignments within the existing SUP boundary; additional terrain and on-mountain infrastructure improvements; and enhancement of non-winter and alternative activities.

DATES: Comments concerning the scope of the analysis must be received by September 25, 2020.

The draft EIS is expected to be available for public review in March 2021, and the final EIS is expected October 2021.

ADDRESSES: Send written comments to: Mel Bolling, Forest Supervisor, c/o Jay Pence, Teton Basin District Ranger, Caribou-Targhee National Forest, 1405 Hollipark Drive, Idaho Falls, ID 83401; or by email at jay.pence@usda.gov (please include “Grand Targhee Master Development Plan Projects” in the subject line).

FOR FURTHER INFORMATION CONTACT: Additional information related to the proposed project can be obtained from: Jay Pence, Teton Basin District Ranger, Caribou-Targhee National Forest. Mr. Pence can be reached by phone at 208-354-6610 or by email at jay.pence@usda.gov.

Individuals who use telecommunication devices for the deaf (TDD) may call the Federal Information Relay Service (FIRS) at 1-800-877-8339 between 8:00 a.m. and 8:00 p.m., Eastern Standard Time, Monday through Friday.

SUPPLEMENTARY INFORMATION:

Purpose and Need for Action

The Forest Service is responding to an application submitted under the National Forest Ski Area Permit Act of 1986 and Ski Area Recreational Opportunity Enhancement Act of 2011 (SAROEA) by GTR to implement projects from their accepted MDP. In the MDP, GTR identified a need to improve the recreational experience and address shortcomings in their terrain offerings and operations in order to remain viable in the competitive destination skier/rider market.

To address the growth in the Idaho and Wyoming skier markets and to provide quality guest experiences for all skier levels, GTR will need to continue to develop and improve its terrain and guest services offerings in direct response to evolving consumer demands and the competitive regional and destination skier markets.

The CTNF, through consideration and acceptance of GTR's MDP, has identified a need to:

• Provide additional undeveloped, minimally maintained lift-served terrain and additional traditionally cleared alpine trails to enhance terrain variety and advanced skiing experiences at GTR;

• Provide an appropriate learning progression in an uncongested beginner area and increase the quantity of beginner, intermediate, and advanced-intermediate skiing terrain to enhance the skiing experience for beginner and intermediate skiers;

• Improve the efficiency of the lift and trail network and skier circulation across the mountain by providing more reliable and consistent snowmaking coverage in key areas;

• Update and improve facilities and guest services in the base area and on the mountain to meet the changing expectations of the local, regional, and destination skier markets; and

• Expand alternative snow-based and non-winter activities to provide a variety of year-round recreational options to guests and to more effectively utilize existing infrastructure during non-winter months.

Proposed Action

The proposed action includes the following nine elements:

• SUP boundary adjustments to incorporate the South Bowl and Mono Trees areas into GTR's SUP Area. Combined, these areas total approximately 1,200 acres, and would provide approximately 180 acres (South Bowl) and 97 acres (Mono Trees) of traditional terrain development and lift construction in these areas;

• Construction of two new aerial lifts, one surface lift, two new beginner carpet lifts, the replacement of the Shoshone Lift, and the realignment of the Papoose carpet;

• Terrain enhancements including trail widening, extensions, grading, and new traditional and gladed terrain development that would result in approximately 118 acres of traditional terrain and 550 acres of gladed terrain;

• Implementation of a Mountain Road Rehabilitation Program to improve existing roads, remove unnecessary roads, and construct new roads;

• Installation of new snowmaking infrastructure to provide an additional 57 acres of snowmaking coverage;

• Construction of two full-service on-mountain guest service facilities (one at the summit of Fred's Mountain and one at the top terminal of the Sacajawea Lift), a guest yurt at the top of the Shoshone Lift, two on-mountain warming cabins (one in Rick's Basin and the other at the top of Lightning Ridge), and a basic warming hut within the proposed South Bowl SUP area;

• Installation of a permanent snow tubing facility and expansion of the existing Nordic skiing, snowshoeing, and winter (fat) biking offerings;

• Development of six (6) miles of downhill biking trails, two (2) miles of hiking trails, and 21 miles of multi-use trails. Development of a summer activity hub around the Shoshone Lift, including a canopy tour and zip line, aerial adventure course, and disc golf course; and

• Amendment of the 1997 Revised Forest Plan for the Targhee National Forest (forest plan) in the areas of the proposed SUP boundary adjustments from management prescription 2.1.2: Visual Quality Maintenance to management prescription 4.2 Special Use Permit Recreation Sites. If necessary, other forest plan amendments will be identified and disclosed in the forthcoming EIS.

A full description of each element can be found at: https://grandtargheeresorteis.org/.

Responsible Official

The responsible official is Mel Bolling, Forest Supervisor for the CTNF.

Nature of Decision To Be Made

Given the purpose and need, the responsible official will review the proposed action, the other alternatives, and the environmental consequences in order to decide the following:

• Whether to approve, approve with modifications, or deny the application for the adjustment of GTR's SUP boundary, the associated projects within the proposed SUP boundary adjustments, and the projects within GTR's existing SUP boundary;

• Whether to prescribe conditions needed for the protection of the environment on National Forest System lands; and

• Whether or not to approve a Forest-wide forest plan amendment changing the management area boundaries for the SUP adjustment, as well as any other forest plan amendments necessary identified in the EIS.

Permits or Licenses Required

Amendment to the Forest Service SUP.

Scoping Process

This notice of intent initiates the scoping process, which guides the development of the EIS. The Forest Service is soliciting comments from Federal, State and local agencies and other individuals or organizations that may be interested in or affected by implementation of the proposed projects. During the public scoping comment period a virtual public open house will be held. Information on the virtual public open house will be distributed through the project website (https://grandtargheeresorteis.org/) and other channels of communication. During the virtual public conference, representatives from the CTNF and GTR will be available to answer questions and provide additional information on this project.

To be most helpful, comments should be specific to the project area and should identify resources or effects that should be considered by the Forest Service. Submitting timely, specific written comments during this scoping period or any other official comment period establishes standing for filing objections under 36 CFR 218 Parts A and B. Additional information and maps of this proposal can be found at: https://grandtargheeresorteis.org/.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered as well; however, those who participate in the comment process anonymously will not have standing to object.

Allen Rowley,
Associate Deputy Chief, National Forest System.

[FR Doc. 2020-18689 Filed 8-25-20; 8:45 am]

BILLING CODE 3411-15-P